DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Wallowa Union Railroad; Waiver Petition Docket Number FRA-2004-18494

The Wallowa Union Railroad (WURR) of Wallowa, Oregon, has petitioned for a permanent waiver of compliance for one passenger car, WURR 1120, from the requirements of the Railroad Safety Glazing Standards, Title 49 CFR Part 223, which require certified glazing in all windows. The passenger car, WURR 1120, was built by Pullman Standard in 1947, and does not have glazing material that meets the provisions of Title 49 CFR Part 223.15 Requirements for existing passenger cars for certified glazing in the side facing windows. The excursion operations on WURR consist of trips ranging from five miles to sixty miles. Speeds are generally ten miles per hour (mph); however, there is a relatively straight section of track between milepost (MP) 57 and MP 83, where the maximum speed is 15 mph.

WURR is located in rural Northeastern Oregon, with very limited access to the line outside of the railroad itself. The largest town that the railroad runs through has a population of 2,020, and the county has a population of just over 7,000 people. The most frequently used public grade crossing has an ADT of 3,250.

WURR states that the line, for the most part, runs through pastures or river canyons. Only two miles of the sixty-three miles of track are located within the above mentioned town with the population of 2,020. WURR requests that due to the slow speed, the rural area of operations, no instances of vandalism from the time the original waiver was granted in 2004, and prohibitive cost to replace the side windows the certified glazing requirements be waived for the passenger car WURR 1120.

The railroad also requests passenger car WURR 1120, together with WURR 2636, which has the required certified glazing, and both built in 1947, continue to be classified as antiquated equipment that is used only for excursion purposes per 49 CFR 223.3(b)3.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-18494) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 13, 2009.
Grady C. Cothen, Jr.,
Deputy Associate Administrator for Safety Standards and Program Development.

[FR Doc. E9-11591 Filed 5-18-09; 8:45 am]

BILLING CODE 4910-06-P